DEPARTMENT OF ENERGY

Federal Energy Regulatory Commission

[Docket No. CP96-128-012]

Eastern Shore Natural Gas Company; Notice of Proposed Changes in FERC Gas Tariff

November 16, 2001.

Take notice that on November 6, 2001, Eastern Shore Natural Gas Company (Eastern Shore) tendered for filing as part of its FERC Gas Tariff, Second Revised Volume No. 1, the following tariff sheets with a proposed effective date of November 1, 2001:

First Revised Sheet No. 1

First Revised Sheet No. 9

Original Sheet No. 10

Eastern Shore states that the purpose of this filing is to provide the requisite information concerning the specific negotiated rate service agreement with PECO Energy Company (PECO). Such requisite information includes the exact legal name of the shipper, the negotiated rate and other applicable charges, the applicable rate schedule, the primary receipt and delivery points, contract quantity and a statement affirming that the negotiated rate service agreement does not deviate in any material aspect from the form of service agreement contained in Eastern Shore's FERC Gas Tariff.

Eastern Shore states that copies have been mailed to all customers and interested state commissions.

Any person desiring to be heard or protest this filing should file a motion to intervene or protest with the Federal Energy Regulatory Commission, 888 First Street, NE., Washington, DC 20426, in accordance with Section 385.214 and 385.211 of the Commission's Rules and Regulations. All such motions or protests must be filed as provided in Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-29236 Filed 11-21-01; 8:45 am]

BILLING CODE 6717-01-P